DEPARTMENT OF TRANSPORTATION

Coast Guard

[USCG 2000-8079]

Setting the Environmental Agenda of the Coast Guard for Oil Pollution—Prevention, Preparedness, and Response—in the 21st Century

AGENCY: Coast Guard, DOT.

ACTION: Notice of public meeting and request for comments.

SUMMARY: The Coast Guard is holding at least one public meeting to help in setting its environmental agenda for oil pollution—prevention, preparedness, and response—in the 21st Century. A decade after the Oil Pollution Act of 1990, spills of cargo oil from tank vessels and other sources have declined; but spills continue to occur in marine transport and to pose new risks and challenges. The Coast Guard hopes to receive input from all stakeholders to identify likely threats to the environment, and to receive ideas on which it may base its prevention, preparedness, and response programs and needs in the future.

DATES: (1) The public meeting will take place on December 12, 2000, from 8:30 a.m. to 4 p.m., but will conclude before 4 p.m. if there are no more comments. (2) Comments and related material must reach the Docket Management Facility on or before December 30, 2000. (3) If the Coast Guard decides to hold a second public meeting, it will announce that meeting by a later notice in the Federal Register.

ADDRESSES: The public meeting will take place at Coast Guard Headquarters, 2100 2nd Street SW., Washington, DC 20593-0001, in room 4202. The meeting will also be video broadcast on the internet.

To make sure your comments and related materials enter the docket [USCG 2000-8079] once and only once, please submit them by only one of the following means:

(1) By mail to the Docket Management Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also access the public docket on the Internet at http://dms.dot.gov.

FOR FURTHER INFORMATION CONTACT: For questions on this public meeting, including those on how to access the meeting on the internet, contact Commander George H. Burns III, Office of Response (G-MOR-1), Coast Guard, telephone 202-267-0421, e-mail Gburns@comdt.uscg.mil. (In particular, we ask that those attending the meeting notify CDR Burns so he can ensure that adequate space is available.) For questions on viewing or submitting material to the docket, call Ms. Dorothy Beard, Chief of Dockets, Department of Transportation, telephone 202-366-9329.

SUPPLEMENTARY INFORMATION:

Request for Comments

We encourage you to participate in this meeting by attending it or by submitting comments and related material to the docket. If you do submit comments or related material, please include your name and address, identify this notice [USCG 2000-8079], and the reason for each comment. You may submit your comments and material by mail, delivery, fax, or electronic means to the Docket Management Facility at the address under ADDRESSES; but please submit your comments and material by only one means. The Coast Guard will consider the comments received from this initial meeting, and those submitted to the docket, to evaluate the need for subsequent meetings, which may examine various factors in more detail. Please submit all comments and attachments in an unbound format, no larger than 8½ by 11 inches, suitable for copying and electronic filing to the Docket Management Facility at the address under ADDRESSES. If you want acknowledgement of receipt of your comments, please enclose a stamped, self-addressed postcard or envelope. We will consider all comments and material received whether submitted in writing to the docket or presented during the meeting.

Background and Purpose

Many factors determine the nature of spills into our nation's waterways and coastal areas. One such factor is future growth. Larger ships with greater fuel capacities may use our navigable waters. Increasing demand for petro-chemicals may exert pressures on the transport system. Offshore production of crude oil from remoter areas will grow as the price of oil rises. Transport of oil through aging pipelines near or under our waterways will pose increasing risk of spills into aquatic and marine environments. Further, with the phasing-in of double-hull requirements for tankships and tank barges over the next several years, the Coast Guard suspects that both the methods of waterborne transport of oil and the risks associated with these methods will change. All of this will affect the environmental services and leadership that the Coast Guard provides.

The Coast Guard, the public, and industry have engaged in numerous partnerships, and conducted many studies, over the past ten years; these certainly point the way toward a reasonable and coherent environmental agenda to fit the future. This meeting will examine ideas generated by these efforts, as well as explore emerging trends. It will be the first step in reconciling the expectations of both the public and industries engaged in marine transport. An agenda will be provided at the meeting based on the following questions.

Questions: Your responses to the following questions are solicited. Please submit your responses as noted above under ADDRESSES.

1. What source do you see as presenting the biggest risk of oil pollution?

2. How do you see that risk changing over the next ten years?

3. How do you see the waterborne transport of oil changing over the next ten or twenty years?

4. What best practices for prevention, if any, from what industry or company, should we urge for uniform application throughout the waterborne transport of oil?

5. Should the Coast Guard concentrate its efforts toward preventing oil pollution on vessels and management, or on measures external to the vessel, such as Vessel Traffic Services, port risk assessments, and the like?

6. Do you perceive the public as becoming less tolerant of the risks of oil pollution? If yes, how is that affecting shipping, mariners' practice, and efforts toward prevention?

7. How will mariners' roles change with respect to preventing oil pollution in the future?

8. Should the Coast Guard be equally prepared for spills from foreign sources and for those from domestic ones? If so, how should we advance preparedness for spills from foreign sources (perhaps through the International Maritime Organization or classification societies)?

9. Should response plans for other sources of spills mirror the response plans for vessels envisioned by OPA 90?

10. Should non-tank vessels have to contract resources for worst cases, as tank vessels must under OPA 90?

11. Should the scope of, frequency of, and criteria for spill response exercises align with those in the Preparedness for Exercise Program (PREP)?

12. Should Qualified Individuals for non-tank vessels meet the same standards as those required for tank vessels?

13. Should strategies for response to and mitigation of other sources of spills differ from those used for sources of spills identified under OPA 90? How?

14. What needs improvement in control of and assessment for response to spills? (These comprise modeling, remote sensing, direct-reading instruments, and field technologies.) How?

15. What needs improvement in cleanup methods and technologies? (These comprise in-situ burning, dispersants, mechanical recovery, shoreline cleanup, bioremediation, and other innovations.) How?

16. How does risk of oil pollution compare with risks from other forms of pollution in terms of effect on the environment? (These may comprise hazardous materials, airborne materials, aquatic nuisance species, or others.)

17. Should we consider specific sources of funding for further improvements? (These may comprise per-barrel taxes, port tariffs, users' fees, or others.) Should the Oil Spill Liability Trust Fund or a similar source be available for preventive measures?

18. What improvements would you make to the U.S. Marine Transportation System to minimize the risk of pollution?

19. Given that the costs of improving the infrastructure of the Marine Transportation System could be significant, what portion of these costs of improvement to reduce the risk of pollution should the public bear?

Information on Services for People with Disabilities

For information on facilities or services for people with disabilities, or to request special assistance at the meeting, please contact Commander George H. Burns III, Office of Response (G-MOR-1), Coast Guard, telephone 202-267-0421, e-mail Gburns@comdt.uscg.mil as soon as possible.

Dated: October 12, 2000.
Howard L. Hime,
Acting Director of Standards, Marine Safety and Environmental Protection.

[FR Doc. 00-26767 Filed 10-17-00; 8:45 am]

BILLING CODE 4910-15-P